DEPARTMENT OF COMMERCE

International Trade Administration

[C-580-888]

Certain Carbon and Alloy Steel Cut-to-Length Plate From the Republic of Korea: Final Results and Partial Rescission of Countervailing Duty Administrative Review; 2019; Correction

AGENCY: Enforcement and Compliance, International Trade Administration, Department of Commerce.

ACTION: Notice; correction.

SUMMARY: On February 7, 2022, the Department of Commerce (Commerce) published a notice in the Federal Register, in which Commerce announced the final results of the 2019 administrative review of the countervailing duty (CVD) order on certain carbon and alloy steel cut-to-length plate (CTL plate) from the Republic of Korea (Korea). This notice inadvertently contained an incorrect rate for all other producers/exporters.

FOR FURTHER INFORMATION CONTACT: Faris Montgomery, AD/CVD Operations, Office VIII, Enforcement and Compliance, International Trade Administration, U.S. Department of Commerce, 1401 Constitution Avenue NW, Washington, DC 20230; telephone: (202) 482-1537.

SUPPLEMENTARY INFORMATION:

Correction

In the Federal Register of February 7, 2022, in FR Doc 2022-02490, on page 6844, in the first column, Commerce included an incorrect all-others rate of 4.31 percent in the first paragraph of the “Cash Deposit Rates.” The correct all-others rate is 3.72 percent. The correct citation for this rate is Certain Carbon and Alloy Steel Cut-To-Length Plate from the Republic of Korea: Notice of Court Decision Not in Harmony With Final Countervailing Duty Determination, and Notice of Amended Final Countervailing Duty Determination, 84 FR 64459 (November 22, 2019).

Background

On February 7, 2022, Commerce inadvertently published an incorrect rate in the final results of the 2019 administrative review of the CVD order on CTL plate from Korea.¹ In the final results, Commerce incorrectly listed the all-others rate as 4.31 percent, while the correct all-others rate is 3.72 percent.² This notice serves as a notification of, and correction to, this inadvertent error. With the issuance of this notice of correction, we confirm that the all-others rate is 3.72 percent.

¹ See Certain Carbon and Alloy Steel Cut-to-Length Plate from the Republic of Korea: Final Results and Partial Recission of Countervailing Duty Administrative Review; 2019, 87 FR 6842 (February 7, 2022).

² See Certain Carbon and Alloy Steel Cut-to-Length Plate from the Republic of Korea: Notice of Court Decision Not in Harmony with Final Countervailing Duty Determination, and Notice of Amended Final Countervailing Duty Determination, 84 FR 64459 (November 22, 2019).

Notification to Interested Parties

This notice is issued and published in accordance with sections 751(a)(1) and 777(i) of the Tariff Act of 1930, as amended, and 19 CFR 351.221(b)(5).

Dated: April 5, 2022.
Lisa W. Wang,
Assistant Secretary for Enforcement and Compliance.

[FR Doc. 2022-07676 Filed 4-8-22; 8:45 am]

BILLING CODE 3510-DS-P